DEPARTMENT OF COMMERCE

International Trade Administration

[A-523-810]

Polyethylene Terephthalate Resin From the Sultanate of Oman: Preliminary Results of Antidumping Duty Administrative Review; 2023-2024

AGENCY: Enforcement and Compliance, International Trade Administration, Department of Commerce.

SUMMARY: The U.S. Department of Commerce (Commerce) preliminarily determines that OCTAL SAOC FZC (OCTAL), the mandatory respondent in this administrative review of the antidumping duty (AD) order on polyethylene terephthalate resin (PET resin) from the Sultanate of Oman (Oman), sold subject merchandise at less than normal value (NV) during the period of review (POR) May 1, 2023, through April 30, 2024. Interested parties are invited to comment on the preliminary results of this administrative review.

DATES: Applicable September 11, 2025.

FOR FURTHER INFORMATION CONTACT: Dylan Hill, AD/CVD Operations, Office IV, Enforcement and Compliance, International Trade Administration, U.S. Department of Commerce, 1401 Constitution Avenue NW, Washington, DC 20230; telephone: (202) 482-1197, respectively.

SUPPLEMENTARY INFORMATION:

Background

On May 6, 2016, Commerce published the AD order on PET resin from Oman.¹ On May 2, 2024, Commerce notified interested parties of an opportunity to request an administrative review of the Order covering the POR.² Based on timely requests for review, in accordance with section 751(a)(1)(B) of the Tariff Act of 1930, as amended (the Act), on July 5, 2024, Commerce initiated an administrative review of the Order with respect to OCTAL covering the POR.³ On July 22, and December 9, 2024, Commerce tolled certain deadlines in this administrative proceeding by seven days and 90 days, respectively.⁴ On May 5, 2025, Commerce extended the deadline for these preliminary results of review until September 5, 2025.⁵

¹ See Certain Polyethylene Terephthalate Resin from Canada, the People's Republic of China, India, and the Sultanate of Oman: Amended Final Affirmative Antidumping Determination (Sultanate of Oman) and Antidumping Duty Orders, 81 FR 27979 (May 6, 2016) (Order).

² See Antidumping or Countervailing Duty Order, Finding, or Suspended Investigation; Opportunity To Request Administrative Review and Join Annual Inquiry Service List, 89 FR 35778 (May 2, 2024).

³ While Commerce initiated this administrative review with respect to OCTAL and OCTAL Inc., OCTAL Inc. is OCTAL's affiliated U.S. importer, and as such, Commerce should not have included OCTAL Inc. in the Initiation. We intend to correct this error in the next notice of initiation of antidumping and countervailing duty administrative reviews. See Initiation of Antidumping and Countervailing Duty Administrative Reviews, 89 FR 55567, 55572 (July 5, 2024) (Initiation); see also OCTAL's Letter, “OCTAL SAOC-FZC Section A Response,” dated September 3, 2024, at 8.

⁴ See Memoranda, “Tolling of Deadlines for Antidumping and Countervailing Duty Proceedings,” dated July 22, 2024, and “Tolling of Deadlines for Antidumping and Countervailing Duty Proceedings,” dated December 9, 2024.

⁵ See Memorandum, “Extension of Deadline for Preliminary Results of Antidumping Duty Administrative Review,” dated May 5, 2025.

For a complete description of the events that followed the initiation of this review, see the accompanying Preliminary Decision Memorandum.⁶ A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the Administrative Review of the Antidumping Duty Order on Polyethylene Terephthalate Resin from the Sultanate of Oman; 2023-2024,” dated concurrently with, and hereby adopted by, this notice (Preliminary Decision Memorandum).

Scope of the Order

The merchandise covered by the Order is PET resin having an intrinsic viscosity of at least 0.70, but not more than 0.88, deciliters per gram. For a full description of the scope of the Order, see the Preliminary Decision Memorandum.

Methodology

Commerce is conducting this review in accordance with section 751(a)(1)(B) the Act. In conducting the review, we calculated export and constructed export prices and NV in accordance with sections 772 and 773 of the Act, respectively. For a full description of the methodology underlying the preliminary results of this review, see the Preliminary Decision Memorandum.

Preliminary Results of Review

We preliminarily determine that the following weighted-average dumping margin exists for the period May 1, 2023, through April 30, 2024:

Producer/exporter | Weighted- average dumping margin (percent)
OCTAL SAOC FZC ⁷ | 3.06

Disclosure

⁷ While Commerce initiated this administrative review with respect to OCTAL SAOC FZC and OCTAL Inc., OCTAL Inc. is OCTAL's affiliated U.S. importer, and as such, Commerce should not have included OCTAL Inc. in the Initiation Notice.

Commerce intends to disclose its calculations for the preliminary results of review to parties to the proceeding within five days of any public announcement or, if there is no public announcement, within five days of the date of publication of this notice in the Federal Register in accordance with 19 CFR 351.224(b).

Public Comment

Case briefs or other written comments may be submitted to the Assistant Secretary for Enforcement and Compliance.⁸ Pursuant to 19 CFR 351.309(c)(1)(ii), we have modified the deadline for interested parties to submit case briefs to Commerce to no later than 21 days after the date of the publication of this notice in the Federal Register. Rebuttal briefs, limited to issues raised in the case briefs, may be filed not later than five days after the due date for filing case briefs.⁹ Parties who submit case briefs or rebuttal briefs in this proceeding are encouraged to submit with each argument: (1) a statement of the issue; and (2) a table of authorities.¹⁰ All briefs must be filed electronically using ACCESS. An electronically filed document must be received successfully in its entirety in ACCESS by 5:00 p.m. Eastern Time on the established deadline.

⁸ See 19 CFR 351.309(c)(1)(ii).

⁹ See 19 CFR 351.309(d); see also Administrative Protective Order, Service, and Other Procedures in Antidumping and Countervailing Duty Proceedings, 88 FR 67069, 67077 (September 29, 2023) (APO and Service Final Rule).

¹⁰ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹²

¹¹ We use the term “issue” here to describe an argument that Commerce would normally address in a comment of the Issues and Decision Memorandum.

¹² See APO and Service Final Rule, 88 FR at 67070.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the case and rebuttal briefs. An electronically filed hearing request must be received successfully in its entirety by Commerce's electronic records system, ACCESS, by 5:00 p.m. Eastern Time within 30 days after the date of publication of this notice in the Federal Register. If a hearing is requested, Commerce will announce the date and time of the hearing. Parties should confirm the date and time of the hearing two days before the scheduled hearing date.

Final Results of Review

Unless otherwise extended, Commerce intends to issue the final results of this administrative review, which will include the results of its analysis of issues raised in any briefs, within 120 days of publication of these preliminary results of review in the Federal Register, pursuant to section 751(a)(3)(A) of the Act.¹³

¹³ See section 751(a)(3)(A) of the Act; see also 19 CFR 351.213(h)(1).

Assessment Rates

In accordance with section 751(a)(2)(C) of the Act, the assessment of antidumping duties on entries of merchandise covered by this review shall be based on the final results of the review.¹⁴ Therefore, upon issuance of the final results of this review, Commerce will determine, and U.S. Customs and Border Protection (CBP) shall assess, antidumping duties on all appropriate entries of subject merchandise covered by this review in accordance with 19 CFR 351.212(b)(1).

¹⁴ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

We will calculate importer-specific ad valorem assessment rates for OCTAL, in accordance with 19 CFR 351.212(b)(1),¹⁵ by dividing the total amount of dumping calculated for all reviewed U.S. sales to an importer by the total entered value of the merchandise sold to the importer.¹⁶

¹⁵ We applied the assessment rate calculation method adopted in Antidumping Proceedings: Calculation of the Weighted-Average Dumping Margin and Assessment Rate in Certain Antidumping Proceedings: Final Modification, 77 FR 8101 (February 14, 2012).

¹⁶ See 19 CFR 351.212(b)(1).

Where either OCTAL's ad valorem weighted-average dumping margin is zero or de minimis, or an importer-specific ad valorem assessment rate is zero or de minimis,¹⁷ we will instruct CBP to liquidate the appropriate entries without regard to antidumping duties.

¹⁷ See 19 CFR 351.106(c)(2).

Pursuant to a refinement to Commerce's assessment practice, where a sale of subject merchandise that was produced or exported by an individually examined respondent was not reported in the U.S. sales data submitted by the respondent, but the merchandise was entered into the United States for consumption during the POR, Commerce will instruct CBP to liquidate any entries of such merchandise at the all-others rate (in this case 7.62 percent) ¹⁸ if there is no rate for the intermediate company(ies) involved in the transaction.¹⁹

¹⁸ See Order, 81 FR at 27982.

¹⁹ For a full discussion of this practice, see Antidumping and Countervailing Duty Proceedings: Assessment of Antidumping Duties, 68 FR 23954 (May 6, 2003).

Cash Deposit Requirements

The following cash deposit requirements will be in effect for all shipments of subject merchandise entered, or withdrawn from warehouse, for consumption on or after the date of publication of the notice of the final results of this administrative review in the Federal Register, as provided for by section 751(a)(2)(C) of the Act: (1) the cash deposit rate for OCTAL will be equal to the weighted-average dumping margin established for the company in the final results of this review, except if the weighted-average dumping margin is less than 0.50 percent, and, therefore, de minimis within the meaning of 19 CFR 351.106(c)(1), the cash deposit rate will be zero; (2) for previously investigated or reviewed companies that are not covered by this review, the cash deposit rate will continue to be the company's cash deposit rate from the most recently completed segment of the proceeding in which it was examined; (3) if the exporter is not covered by this review, and does not have a cash deposit rate from a completed segment of this proceeding, but the producer of the subject merchandise does have a cash deposit rate, then the cash deposit rate will be the producer's cash deposit rate from the most recently completed segment of the proceeding in which it was examined; and (4) the cash deposit rate for all other producers or exporters will continue to be 7.62 percent, the all-others rate established in the less-than-fair-value investigation in this proceeding.²⁰ These cash deposit requirements, when imposed, shall remain in effect until further notice.

²⁰ See Order, 81 FR at 27982.

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(1) and 777(i)(1) of the Act, and 19 CFR 351.213(h)(2) and 351.221(b)(4).

Dated: September 5, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

V. Currency Conversion

VI. Recommendation

[FR Doc. 2025-17455 Filed 9-10-25; 8:45 am]

BILLING CODE 3510-DS-P